DEPARTMENT OF VETERANS AFFAIRS

38 CFR Part 17

RIN 2900-AL39

Priorities for Outpatient Medical Services and Inpatient Hospital Care

AGENCY: Department of Veterans Affairs.

ACTION: Interim final rule.

SUMMARY: This document amends VA's medical regulations to establish that in scheduling appointments for non-emergency outpatient medical services and admissions for inpatient hospital care, VA will give priority to veterans with service-connected disabilities rated 50 percent or greater and veterans needing care for a service-connected disability. The Veterans' Eligibility Reform Act of 1996 authorizes VA to ensure that these two categories of veterans receive priority access to this type of care. The intended effect of this interim final rule is to carry out that authority.

DATES: Effective Date: September 17, 2002.

Comment Date: Comments must be received on or before November 18, 2002.

ADDRESSES: Mail or hand-deliver written comments to: Director, Office of Regulations Management (02D), Department of Veterans Affairs, 810 Vermont Ave., NW., Room 1154, Washington, DC 20420; or fax comments to (202) 273-9289; or e-mail comments to OGCRegulations@mail.va.gov. Comments should indicate that they are submitted in response to “RIN 2900-AL39.” All comments received will be available for public inspection in the Office of Regulations Management, Room 1158, between the hours of 8 a.m. and 4:30 p.m., Monday through Friday (except holidays).

FOR FURTHER INFORMATION CONTACT: Amy Hertz, Office of Policy and Planning (105D), at (202) 273-8934 or Roscoe Butler, Chief Policy & Operations, Health Administration Service (10C3), at (202) 273-8302. These individuals are in the Veterans Health Administration of the Department of Veterans Affairs, and are located at 810 Vermont Avenue, NW., Washington, DC 20420.

SUPPLEMENTARY INFORMATION: The Veterans' Eligibility Reform Act of 1996, Public Law No. 104-262 (Eligibility Reform Act) amended title 38, United States Code, to authorize VA to provide needed inpatient hospital care and outpatient medical services to most veterans. That law also directs VA to establish a national patient enrollment system to manage the provision of that care and services. The law directs VA to enroll veterans for care in accordance with priorities set forth in the statute, and requires that most veterans formally enroll with VA in order to receive care from VA.

However, the law also specifically provides that the Secretary shall provide care to certain veterans without their needing to enroll. Included are veterans with service-connected disabilities rated 50 percent or greater and veterans needing care for a service-connected disability. Allowing those veterans to receive care without regard to enrollment effectively gives them priority over all other veterans. The legislative history of the Eligibility Reform Act also includes references to Congress' intent that these two groups of veterans, those with a very high claim to VA services, should have priority access to care.

VA established an enrollment system through rules promulgated at 38 CFR 17.36 and 17.37. Those rules provide that veterans with disabilities rated 50 percent or greater, and veterans needing care for a service-connected disability, need not enroll to receive care from VA. The rules do not, however, afford those two groups of veterans with special priority access to VA outpatient medical services or inpatient hospital care, as authorized by law. This interim final rule rectifies that matter and expressly provides for that priority access. Moreover, it provides such priority to these veterans regardless of whether they are enrolled in the VA health care system.

Administrative Procedure Act

Since hundreds of thousands of our core constituency veterans are currently on waiting lists causing delays in their receiving treatment, we have found good cause to dispense with the notice-and-comment and delayed effective date provisions of the Administrative Procedure Act (5 U.S.C. 553). Compliance with such provisions would be impracticable and contrary to the public interest.

Unfunded Mandates

The Unfunded Mandates Reform Act requires, at 2 U.S.C. 1532, that agencies prepare an assessment of anticipated costs and benefits before developing any rule that may result in an expenditure by State, local, or tribal governments, in the aggregate, or by the private sector of $100 million or more in any given year. This rule would have no consequential effect on State, local, or tribal governments.

Paperwork Reduction Act

This document contains no provisions constituting a collection of information under the Paperwork Reduction Act (44 U.S.C. 3501-3520).

Executive Order 12866

This document has been reviewed by the Office of Management and Budget under Executive Order 12866.

Regulatory Flexibility Act

The Secretary hereby certifies that this regulatory amendment would not have a significant economic impact on a substantial number of small entities as they are defined in the Regulatory Flexibility Act (RFA), 5 U.S.C. 601-612. This amendment would not directly affect any small entities. Only individuals could be directly affected. Therefore, pursuant to 5 U.S.C. 605(b), this amendment is exempt from the initial and final regulatory flexibility analysis requirements of sections 603 and 604.

Catalog of Federal Domestic Assistance Numbers

The Catalog of Federal Domestic Assistance numbers for the programs affected by this document are 64.005, 64.007, 64.008, 64.009, 64.010, 64.011, 64.012, 64.013, 64.014, 64.015, 64.016, 64.018, 64.019, 64.022, and 64.025.

List of Subjects in 38 CFR Part 17

Administrative practice and procedure, Alcohol abuse, Alcoholism, Claims, Day care, Dental health, Drug abuse, Foreign relations, Government contracts, Grant programs-health, Grant programs-veterans, Health care, Health facilities, Health professions, Health records, Homeless, Medical and dental schools, Medical devices, Medical research, Mental health programs, Nursing homes, Philippines, Reporting and recordkeeping requirements, Scholarships and fellowships, Travel and transportation expenses, Veterans.

Approved: August 9, 2002.
Anthony J. Principi,
Secretary of Veterans Affairs.

For the reasons set out in the preamble, 38 CFR part 17 is amended as set forth below:

PART 17—MEDICAL

1. The authority citation for part 17 continues to read as follows:

Authority: 38 U.S.C. 501, 1721, unless otherwise noted.

2. Section 17.49 is revised to read as follows:

§ 17.49 Priorities for Outpatient Medical Services and Inpatient Hospital Care.

In scheduling appointments for outpatient medical services and admissions for inpatient hospital care, the Under Secretary for Health shall give priority to:

(a) Veterans with service-connected disabilities rated 50 percent or greater based on one or more disabilities or unemployability; and

(b) Veterans needing care for a service-connected disability.

(Authority: 38 U.S.C. 101, 501, 1705, 1710.)

[FR Doc. 02-23312 Filed 9-16-02; 8:45 am]

BILLING CODE 8320-01-P